DEPARTMENT OF COMMERCE

National Oceanic and Atmospheric Administration

DEPARTMENT OF THE INTERIOR

Fish and Wildlife Service

[I.D. 110206F]

Notice of Availability of Final Environmental Impact Statement for the Final Green Diamond Resource Company Aquatic Habitat Conservation Plan/Candidate Conservation Agreement with Assurances, Del Norte and Humboldt Counties, CA

AGENCIES: National Marine Fisheries Service, National Oceanic and Atmospheric Administration, Commerce; Fish and Wildlife Service, Interior.

ACTION: Notice of Availability of Final Environmental Impact Statement (EIS).

SUMMARY: Pursuant to the National Environmental Policy Act (NEPA), the National Marine Fisheries Service (NMFS) and the Fish and Wildlife Service (FWS) (together, the Services) advise the public of the availability of the Final EIS on the applications by Simpson Resource Company, now Green Diamond Resource Company (Green Diamond), for a Section 10 incidental take permit and an enhancement of survival permit (together, the Permits), and a Final multi-species Aquatic Habitat Conservation Plan/ Candidate Conservation Agreement with Assurances (AHCP/CCAA, or Plan) pursuant to the Endangered Species Act of 1973, as amended (ESA). The Services and Green Diamond also have developed an Implementation Agreement. The applicant seeks the Permits to authorize incidental take of specified covered species, including some that may become listed during the term of the Permits. The Permits are sought to authorize incidental take of the covered species during forest management and timber harvest in Del Norte and Humboldt Counties, CA, where Green Diamond owns lands or harvesting rights, during the term of the proposed 50 year Permits and Plan.

This notice is provided pursuant to applicable NEPA regulations (40 CFR 1506.6) to inform the public of the proposed action, and to make available for 30 days' review the Final EIS, Plan, and Implementation Agreement. The Environmental Protection Agency (EPA) also is publishing a similar notice.

DATES: Written comments must be received on or before December 27, 2006.

ADDRESSES: Comments may be sent by any of the following methods:

• Mail: Please sed comments to Mr. John Clancy, National Marine Fisheries Service, Arcata Fish and Wildlife Office, 1655 Heindon Road, Arcata, California 95521.

• E-mail: Comments can be submitted by e-mail to GDR.FEIS@noaa.gov.

• Fax: You may fax comments to (707) 822-8411.

FOR FURTHER INFORMATION CONTACT: Ms. Amedee Brickey, Fish and Wildlife Service, Arcata Fish and Wildlife Office, 1655 Heindon Road, Arcata, CA 95521, (707) 822-7201; or Mr. John P. Clancy, National Marine Fisheries Service, 1655 Heindon Road, Arcata, CA 95521, (707) 825-5175.

SUPPLEMENTARY INFORMATION:

Availability of Documents

Copies of the Final EIS, Plan, Applications for Permits and Implementation Agreement are available for public inspection during regular business hours at the Arcata National Marine Fisheries Office and Arcata Fish and Wildlife Office (see FOR FURTHER INFORMATION CONTACT).

The documents can also be downloaded from the World Wide Web at http://swr.nmfs.noaa.gov. Copies are also available for viewing in each of the following libraries:

1. Eureka Main Library, 1313 3rd Street, Eureka, CA; Telephone: (707) 269-1900

2. Fortuna Branch, Humboldt County Library, 775 14th Street, Fortuna, CA; Telephone: (707) 725-3460

3. Arcata Branch, Humboldt County Library, 500 7th Street, Arcata, CA; Telephone: (707) 822-5924

4. Crescent City Library, 190 Price Mall, Crescent City, CA; Telephone: (707) 464-9793

Background Information

Section 9 of the ESA and Federal regulation prohibit the taking of an animal species listed as endangered or threatened. The term “take” is defined under the ESA to mean harass, harm, pursue, hunt, shoot, wound, kill, trap, capture, or collect, or to attempt to engage in any such conduct. “Harm” has been defined by FWS to include “significant habitat modification or degradation where it actually kills or injures wildlife by significantly impairing essential behavioral patterns, including breeding, feeding, and sheltering.” Consistent with FWS, NMFS has defined “harm” as an act which actually kills or injures fish or wildlife, and emphasizes that such acts may include “significant habitat modification or degradation which actually kills or injures fish or wildlife by significantly impairing essential behavioral patterns, including breeding, spawning, rearing, migrating, feeding, or sheltering.”

The Services may issue two types of permits under section 10(a) of the ESA to non-federal landowners to take listed species, under certain terms and conditions. FWS' regulations governing permits for threatened and endangered species are promulgated at 50 CFR 17.32 and 50 CFR 17.22; NMFS' regulations governing permits for threatened and endangered species are promulgated at 50 CFR 222.307. Green Diamond has prepared their Plan to satisfy the application requirements for a section 10(a)(1)(B) incidental take permit under the ESA for, listed and non-listed, covered species under the jurisdiction of NMFS. Green Diamond's Plan was also prepared to satisfy the application requirements for a section 10(a)(1)(A) enhancement of survival permit under the ESA for non-listed covered species under the jurisdiction of the FWS.

Though the names of these two permitting tools are different, the goals are similar, and the strategies for achieving those goals can overlap. Green Diamond's conservation strategy was designed to fulfill section 10(a)(1)(A) and section 10(a)(1)(B) permit requirements in a single Plan. If the Plan is approved and the Permits issued, take authorization of covered listed species would be effective at the time of permit issuance. Take of the currently non-listed species would be authorized concurrent with species' listing under the ESA, should they be listed during the duration of the Permits.

Green Diamond owns and manages approximately 439,000 acres of commercial timberland in Del Norte and Humboldt Counties, CA. Approximately 417,000 acres of this property occurs in watersheds with habitat important to the conservation of salmonid species in the North Coast region of California, including, but not limited to, the Winchuck River, Smith River, Klamath River and its tributaries, Redwood Creek, Little River, Mad River, tributaries to Humboldt Bay, Eel River, the Van Duzen River and others. Some forest management and timber harvest activities have the potential to impact species subject to protection under the ESA.

Green Diamond has developed a Plan, with technical assistance from the Services, to obtain Permits for take incidental to specified covered activities on approximately 417,000 acres of its commercial timberlands. Activities proposed for Permit coverage include the following: timber-product harvest; forest product transportation; road and landing construction, use, maintenance and decommissioning; site preparation; tree planting; silvicultural thinning; controlled burns; rock quarries and borrow pit operations; aquatic habitat restoration; and the management, harvest, and sale of minor forest products. The Plan also covers certain monitoring activities and related scientific experiments in the Plan area. The proposed duration of the Plan is 50 years.

Green Diamond seeks a section 10(a)(1)(B) incidental take permit from NMFS that would authorize the take of fish in two Evolutionarily Significant Units (ESUs) and one Distinct Population Segment (DPS), which are listed as threatened, incidental to otherwise lawful management activities: California Coastal Chinook salmon (Oncorhynchus tshawytscha) ESU, Southern Oregon/Northern California Coast coho salmon (O. kisutch) ESU, and Northern California steelhead (O. mykiss) DPS. Green Diamond also is seeking coverage of fish in three unlisted ESUs (Klamath Mountains Province steelhead ESU, Upper Klamath/Trinity Rivers Chinook salmon ESU, and Southern Oregon and Northern California Coastal Chinook salmon ESU) under specific provisions of the incidental take permit, should these species be listed in the future.

Green Diamond also has requested a section 10(a)(1)(A) enhancement of survival permit from FWS that would authorize the take of the non-listed coastal cutthroat trout (O. clarki clarki), rainbow trout (O. mykiss), southern torrent salamander (Rhyacotriton variegatus), and tailed frog (Ascaphus truei) under specific provisions of the enhancement of survival permit, should these species be listed in the future.

On July 11, 2000, the Services formally initiated an environmental review of the project through a Notice of Intent to prepare an EIS in the Federal Register (65 FR 42674). The project proponent was Simpson Timber Company. In December of 2001, Simpson Timber Company transferred all of its timberlands to Simpson Resource Company, and Simpson Resource Company became the project proponent. The Notice of Intent also announced a 30-day public scoping period, during which other agencies, tribes, and the public were invited to provide comments and suggestions regarding issues and alternatives to be included in the EIS. Four public scoping meetings were held over a two-day period on July 11 and July 12, 2000, in Eureka and Crescent City, California, and a series of six informational meetings with cooperating agencies and local tribal groups also were held in August and September 2000.

On August 16, 2002, the Services published a Notice of Availability of the Draft Simpson Resource Company Aquatic Habitat Conservation Plan/Candidate Conservation Agreement with Assurances and Draft Environmental Impact Statement, Del Norte and Humboldt Counties, California in the Federal Register (67 FR 53567). The public review period was scheduled for 90 days from August 16, 2002, to November 14, 2002. Two public meetings were held on September 4, 2002, in Eureka, California. A total of 20 oral questions and comments were received from two public meetings, and 25 comment letters were received, comprising 1,267 separate comments. A response to each of these comments is included in the Final EIS.

Effective May 1, 2004, Simpson Resource Company, the project proponent, changed its name to Green Diamond Resource Company, and the Final EIS reflects that change.

The Final EIS is intended to accomplish the following: Inform the public of the proposed action and alternatives; disclose the direct, indirect, and cumulative environmental effects of the proposed action and each of the alternatives; and indicate any irreversible commitment of resources that would result from implementation of the proposed action.

Alternatives

The Final EIS analyzes Green Diamond's proposal and four alternatives. Under the Proposed Action, the Services would issue the Permits and Green Diamond would implement their proposed Plan on approximately 417,000 acres of Green Diamond 's California timberlands. Under the No Action Alternative, Permits would not be issued and Green Diamond would remain subject to the prohibition on unauthorized taking of listed species. Under a Listed Species Only Alternative (Alternative A), the Services would issue Permits only for currently listed species. The Simplified Prescriptions Alternative (Alternative B) would provide coverage for the same species as the Proposed Action, with modified management obligations. The Expanded Species/Geographic Area Alternative (Alternative C) would expand the area of coverage and the number of species covered under the Permits.

National Environmental Policy Act

Proposed permit issuance triggers the need for compliance with the National Environmental Policy Act (NEPA) and accordingly the Services have prepared a joint NEPA document. The Services are Co-Leads responsible for compliance under NEPA. As NEPA Co-Lead agencies, the Services are providing notice of the availability of the Final EIS and are making available for public review the responses to comments on the Draft EIS.

Public Review

The Services invite the public to review the Final EIS, Plan, and Implementing Agreement during a 30-day waiting period [see DATES]. Any comments received, including names and addresses, will become part of the administrative records and may be made available to the public.

Our practice is to make comments, including names, home addresses, home phone numbers, and email addresses of respondents, available for public review. Individual respondents may request that we withhold their names and /or homes addresses, etc., but if you wish us to consider withholding this information you must state this prominently at the beginning of your comments. In addition, you must present a rationale for withholding this information. This rationale must demonstrate that disclosure would constitute a clearly unwarranted invasion of privacy. Unsupported assertions will not meet this burden. In the absence of exceptional, documentable circumstances, this information will be released. We will always make submissions from organization or businesses, and from individuals identifying themselves as representatives of or officials of organizations or businesses, available for public inspection in their entirety.

The Services will evaluate the application, associated documents, and comments submitted to them in preparation of the two Records of Decision. Permit decisions will be made no sooner than 30 days after the publication of the Final EIS and completion of the Records of Decision.

This notice is provided pursuant to section 10(a) of the Federal ESA and the applicable regulations for implementing NEPA, as amended (40 CFR 1506.6). We provide this notice in order to allow the public, agencies, or other organizations the opportunity to review these documents.

Dated: November 16, 2006.
Angela Somma,
Chief, Endangered Species Division, Office of Protected Resources, National Marine Fisheries Service.

Dated: November 7, 2006.
Ken McDermond,
Deputy Operations Manager, California/Nevada Operations Office, Fish and Wildlife Service, Sacramento, California.

[FR Doc. 06-9408 Filed 11-24-06; 8:45 am]

BILLING CODES 3510-22-S, 4310-55-S